COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Information and Regulatory Affairs (OIRA), of the Office of Management and Budget (OMB), for review and comment. The ICR describes the nature of the information collection and its expected costs and burden.

DATES: Comments must be submitted on or before November 25, 2024.

ADDRESSES: Written comments and recommendations for the proposed information collection should be submitted within 30 days of this notice's publication to OIRA, at https://www.reginfo.gov/public/do/PRAMain. Please find this particular information collection by selecting “Currently under 30-day Review—Open for Public Comments” or by using the website's search function. Comments can be entered electronically by clicking on the “comment” button next to the information collection on the “OIRA Information Collections Under Review” page, or the “View ICR—Agency Submission” page. A copy of the supporting statement for the collection of information discussed herein may be obtained by visiting https://www.reginfo.gov/public/do/PRAMain.

In addition to the submission of comments to https://Reginfo.gov as indicated above, a copy of all comments submitted to OIRA may also be submitted to the Commodity Futures Trading Commission (the “Commission” or “CFTC”) by clicking on the “Submit Comment” box next to the descriptive entry for OMB Control No. 3038-0007, at https://comments.cftc.gov/FederalRegister/PublicInfo.aspx.

Or by either of the following methods:

• Mail: Christopher Kirkpatrick, Secretary of the Commission, Commodity Futures Trading Commission, Three Lafayette Centre, 1155 21st Street NW, Washington, DC 20581.

• Delivery/Courier: Same as Mail above.

All comments must be submitted in English, or if not, accompanied by an English translation. Comments submitted to the Commission should include only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, prescreen, filter, redact, refuse or remove any or all of your submission from https://www.cftc.gov that it may deem to be inappropriate for publication, such as obscene language. All submissions that have been redacted or removed that contain comments on the merits of the ICR will be retained in the public comment file and will be considered as required under the Administrative Procedure Act and other applicable laws and may be accessible under the Freedom of Information Act.

¹ 17 CFR 145.9.

FOR FURTHER INFORMATION CONTACT: Catherine Brescia, Attorney Advisor, Market Participants Division, Commodity Futures Trading Commission, telephone: (202) 418-6236; email: cbrescia@cftc.gov, and refer to OMB Control No. 3038-0007.

SUPPLEMENTARY INFORMATION:

Title: Regulation of Domestic Exchange-Traded Options, OMB Control Number 3038-0007. This is a request for extension of a currently approved collection.

Abstract: Commission Regulations 33.7 and 33.8,² respectively, require futures commission merchants (FCMs) and introducing brokers (IBs): (1) to provide retail (i.e., non-eligible contract participant) ³ customers with, and retain, standard risk disclosure statements concerning the risk of trading certain domestic exchange-traded commodity options; ⁴ and (2) to retain all related promotional material and the source of authority for information contained therein. These requirements help assure that these customers are not fraudulently induced to invest in these commodity options by persons who misrepresent the risks of such transactions. The recordkeeping requirements assist the Commission and the National Futures Association (NFA) in verifying registrants' compliance with their disclosure obligations and ensuring that related promotional material is not fraudulent or misleading.

² 17 CFR 33.7 and 33.8.

³ Commission Regulation 33.7 does not require FCMs or IBs to provide the disclosure or obtain a related acknowledgment from institutional customers. See 17 CFR 33.7(a)(1). Commission Regulation 1.3 provides that “institutional customer” has the same meaning as “eligible contract participant” (“ECP”) as defined in section 1a(18) of the Commodity Exchange Act (“CEA”). Under the CEA, an ECP includes, for example, a financial institution, an insurance company, and a corporation with $10 million in assets.

⁴ See Commission Regulation 33.2(b). 17 CFR 33.2(b) (providing that Part 33 of the Commission's Regulations applies to commodity option transactions that are options on contracts of sale of a commodity for future delivery except for commodity option transactions that are options on contracts of sale of a commodity for future delivery conducted or executed on or subject to the rules of a foreign board of trade).

This information collection contains the third-party disclosure and recordkeeping requirements needed to ensure regulatory compliance by FCMs and IBs with these Commission Regulations.

An agency may not conduct or sponsor, and a person is not required to respond to, a collection of information unless it displays a currently valid OMB control number. On August 12, 2024, the Commission published in the Federal Register notice of the proposed extension of this information collection and provided 60 days for public comment on the proposed extension, 89 FR 65606 (“60-Day Notice”). The Commission did not receive any relevant comments on the 60-Day Notice.

Burden Statement: The Commission estimates the burden of this collection of information as follows:

Estimated Number of Annual Respondents: 983.

Estimated Average Annual Burden Hours per Respondent: 34.2.

Estimated Total Annual Burden Hours: 33,619.

Frequency of Collection: On occasion.

There are no capital costs or operating and maintenance costs associated with this collection.

(Authority: 44 U.S.C. 3501 et seq.)

Dated: October 22, 2024.
Robert Sidman,
Deputy Secretary of the Commission.

[FR Doc. 2024-24857 Filed 10-24-24; 8:45 am]

BILLING CODE 6351-01-P